DEPARTMENT OF HOUSING AND URBAN DEVELOPMENT

[Docket No. FR-4723-C-02]

Super Notice of Funding Availability (SuperNOFA) for HUD's Discretionary Grant Programs for Fiscal Year 2002; Correction

AGENCY: Office of the Secretary, HUD.

ACTION: Super Notice of Funding Availability (SuperNOFA) for HUD Discretionary Grant Programs; correction.

SUMMARY: On March 26, 2002, HUD published its Fiscal Year (FY) 2002 Super Notice of Funding Availability (SuperNOFA) for HUD's Discretionary Grant Programs. This document makes a technical correction with respect to one of the forms that follow the General Section of the SuperNOFA.

DATES: All application due dates remain as published in the Federal Register on March 26, 2002.

FOR FURTHER INFORMATION CONTACT: Barbara Dorf, Office of Grants Management and Oversight, Office of Administration, Room 2182, Department of Housing and Urban Development, 451 Seventh Street, SW., Washington, DC 20410. Telephone (202) 708-0667 (this is not a toll-free number). Hearing or speech impaired persons may access this number by calling the Federal Information Relay Service at 1-800-877-8339 (this is a toll-free number).

SUPPLEMENTARY INFORMATION: On March 26, 2002 (67 FR 13826), HUD published its Super Notice of Funding Availability (SuperNOFA) for HUD's Discretionary Grant Programs for Fiscal Year (FY) 2002. The FY 2002 SuperNOFA announced the availability of approximately $2.2 billion in HUD program funds covering 41 grant categories within programs operated and administered by HUD offices. This notice published in today's Federal Register makes a technical correction with respect to one of the forms that follows the General Section of the SuperNOFA. Specifically, this notice removes from Appendix B of the General Section the form entitled “Grant Applicant's Status as a Religious Organization” (HUD-424f). This form is not yet an approved information collection form and was inadvertently included. This document therefore provides notice of the removal.

Correction

General Section of SuperNOFA, Beginning at 67 FR 13826

On page 13892, HUD removes from Appendix B of the General Section of the SuperNOFA the form entitled “Grant Applicant's Status as a Religious Organization” (HUD-424f).

Dated: March 28, 2002.
Aaron Santa Anna,
Assistant General Counsel, Regulations Division.

[FR Doc. 02-7949 Filed 4-1-02; 8:45 am]

BILLING CODE 4210-32-P